DEPARTMENT OF LABOR

Agency Information Collection Activities; Submission for OMB Review; Comment Request; Notice of Termination, Peace Corps Volunteer Authorization for Examination and/or Treatment

Correction

In notice document 2025-19133, appearing on page 47343 in the issue of Wednesday, October 1, 2025, make the following correction:

On page 47343, in the second column, in the DATES section, “December 31, 2025” should read “October 31, 2025”.

[FR Doc. C1-2025-19133 Filed 12-1-25; 8:45 am]

BILLING CODE 0099-10-D